DEPARTMENT OF THE INTERIOR

National Park Service

[NPS-WASO-NAGPRA-12675; PPWOCRADN0-PCU00RP14.R50000]

Notice of Intent To Repatriate Cultural Items: U.S. Department of the Interior, National Park Service, Everglades National Park, Homestead, FL

AGENCY: National Park Service, Interior.

ACTION: Notice.

SUMMARY: The U.S. Department of the Interior, National Park Service, Everglades National Park, in consultation with the appropriate Indian tribes or Native Hawaiian organizations, has determined that the cultural items listed in this notice meet the definition of unassociated funerary objects. Lineal descendants or representatives of any Indian tribe or Native Hawaiian organization not identified in this notice that wish to claim these cultural items should submit a written request to Everglades National Park. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Everglades National Park at the address in this notice by May 15, 2013.

ADDRESSES: Dan Kimball, Superintendent, Everglades National Park, 4001 State Road 9336, Homestead, FL 33034, telephone (305) 242-7707, email Dan_Kimball@nps.gov.

SUPPLEMENTARY INFORMATION: Notice is here given in accordance with the Native American Graves Protection and Repatriation Act (NAGPRA), 25 U.S.C. 3005, of the intent to repatriate cultural items under the control of the U.S. Department of the Interior, National Park Service, Everglades National Park, Homestead, FL, that meet the definition of unassociated funerary objects under 25 U.S.C. 3001.

This notice is published as part of the National Park Service's administrative responsibilities under NAGPRA, 25 U.S.C. 3003(d)(3). The determinations in this notice are the sole responsibility of the Superintendent, Everglades National Park.

History and Description of the Cultural Items

In 1982, two cultural items were removed from the Mosquito Island Site in Monroe County, FL. During an authorized survey, human remains and associated funerary objects were collected from Mosquito Island. The human remains and 41 objects were described in a Notice of Inventory Completion published in the Federal Register in 1996 (61 FR 8971, March 6, 1996) and were repatriated after the 30 day waiting period expired. The two cultural items were mentioned in the March 6, 1996 Notice of Inventory Completion, but could not be located prior to publication and so were not included in the total number of associated funerary objects described in the notice. In 2011, the two objects were found in National Park Service collections. The two unassociated funerary objects are one carbide lamp and one incomplete boat lantern.

Archeological and ethnographic information indicates that the Mosquito Island Site was a Miccosukee campsite during the mid-20th century.

Determinations Made by Everglades National Park

Officials of Everglades National Park have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Miccosukee Tribe of Indians.

Additional Requestors and Disposition

Lineal descendants or representatives of any Indian tribe or Native Hawaiian organization not identified in this notice that wish to claim these cultural items should submit a written request with information in support of the claim to Dan Kimball, Superintendent, Everglades National Park, 4001 State Road 9336, Homestead, FL 33034, telephone (305) 242-7707, email Dan_Kimball@nps.gov by May 15, 2013. After that date, if no additional claimants have come forward, transfer of control of the unassociated funerary objects to the Miccosukee Tribe of Indians may proceed.

Everglades National Park is responsible for notifying the Miccosukee Tribe of Indians that this notice has been published.

Dated: March 26, 2013.
Sherry Hutt,
Manager, National NAGPRA Program.

[FR Doc. 2013-08767 Filed 4-12-13; 8:45 am]

BILLING CODE 4312-50-P